GENERAL SERVICES ADMINISTRATION

41 CFR Part 102-42

[FMR Amendment 2008-03; FMR Case 2008-102-1; Docket 2008-0001; Sequence 1]

RIN 3090-AI45

Federal Management Regulation; FMR Case 2008-102-2, Change in Consumer Price Index Minimal Value

AGENCY: Office of Governmentwide Policy, General Services Administration, (GSA).

ACTION: Final rule.

SUMMARY: Public Law 95-105 requires that at 3-year intervals following January 1, 1981, minimal value for foreign gifts be redefined by the Administrator of General Services, after consultation with the Secretary of State, to reflect changes in the Consumer Price Index for the immediately preceding 3-year period. The required consultation has been completed and the minimal value has been increased to mean $335 or less as of January 1, 2008.

DATES: Effective Date: This final rule is effective February 8, 2008.

Applicability Date: January 1, 2008.

FOR FURTHER INFORMATION CONTACT: Mr. Robert Holcombe, Director, Asset Management Policy Division (202) 501-3828 for clarification of content. For information pertaining to status or publication schedules, contact the Regulatory Secretariat, Room 4035, GS Building, Washington, DC 20405, (202) 501-4755. Please cite FMR Amendment 2008-03, FMR Case 2008-102-1.

SUPPLEMENTARY INFORMATION:

A. Executive Order 12866

The General Services Administration (GSA) has determined that this final rule is not a significant regulatory action for the purposes of Executive Order 12866 of September 30, 1993.

B. Regulatory Flexibility Act

This final rule is not required to be published in the Federal Register for notice and comment. Therefore, the Regulatory Flexibility Act does not apply.

C. Paperwork Reduction Act

The Paperwork Reduction Act does not apply because this final rule does not impose recordkeeping or information collection requirements, or the collection of information from offerors, contractors, or members of the public which require the approval of OMB under 44 U.S.C. 3501-3520.

D. Small Business Reform Act

This final rule is also exempt from Congressional review prescribed under 5 U.S.C. 801 since it relates solely to agency management and personnel.

List of Subjects in 41 CFR Part 102-42

Excess government property, Government property management.

Dated: January 27, 2008.
Lurita Doan,
Administrator of General Services.

For the reasons set forth in the preamble, GSA amends 41 CFR part 102-42 as set forth below:

PART 102-42—UTILIZATION, DONATION, AND DISPOSAL OF FOREIGN GIFTS AND DECORATIONS

1. The authority citation for 41 CFR part 102-42 continues to read as follows:

Authority: 40 U.S.C. 121(c); 5 U.S.C. 7342.

§ 102-42.10 [Amended]

2. Amend § 102-42.10, in the definition of Minimal value, by removing “$305” and adding “$335” in its place.

[FR Doc. E8-2359 Filed 2-7-08; 8:45 am]

BILLING CODE 6820-14-S